DEPARTMENT OF THE INTERIOR

Office of the Secretary

43 CFR Part 4

[Docket No. DOI-2022-0010; Deposit Account]

RIN 1094-AA57

Practices Before the Department of the Interior; Further Delay of Effective Date

AGENCY: Office of Hearings and Appeals, Interior.

ACTION: Interim final rule; further delay of effective date.

SUMMARY: In accordance with the memorandum of January 20, 2025, from President Donald J. Trump, entitled “Regulatory Freeze Pending Review,” this action provides a second notification to delay the effective date of the interim final rule published on January 10, 2025, until May 5, 2025.

DATES: As of March 13, 2025, the effective date of the rule published at 90 FR 2332 on January 10, 2025, delayed to March 21, 2025 at 90 FR 9222, is further delayed until May 5, 2025.

FOR FURTHER INFORMATION CONTACT: Rachel R. Lukens, telephone: (703) 235-3810, email: Rachel_Lukens@oha.doi.gov. Individuals in the United States who are deaf, blind, hard of hearing, or have a speech disability may dial 711 (TTY, TDD, or Tele Braille) to access telecommunications relay services. Individuals outside the United States should use the relay services offered within their country to make international calls to the point-of-contact in the United States.

SUPPLEMENTARY INFORMATION: The interim final rule, “Practices Before the Department of the Interior,” published on January 10, 2025, at 90 FR 2332, included a 30-day public comment period that ends on February 10, 2025. The effective date of the interim final rule was February 10, 2025. The Office of Hearings and Appeals (OHA) is taking this action in accordance with Memorandum M-25-10 of January 20, 2025, from the Executive Office of the President, Office of Management and Budget, Implementation of Regulatory Freeze, regarding the postponement of effective dates of certain published regulations. The memorandum directed the heads of Executive Departments and Agencies to consider postponing for sixty days from the date of the memorandum the effective date for any rules that have been published in the Federal Register, or any rules that have been issued in any manner but have not taken effect, for the purpose of reviewing any questions of fact, law, and policy that the rule may raise. On February 10, 2025, OHA published a notification delaying the effective date (90 FR 9222) for the interim final rule published at 90 FR 2332 to March 21, 2025. This second notification further delays the effective date to May 5, 2025, to provide for Department review. OHA is extending the effective date of the interim final rule without opportunity for public comment and making the extension effective immediately, based on the good cause exemptions in 5 U.S.C. 553(b)(B) and 553(d)(3), in that seeking public comment on the extension is impracticable, unnecessary, and contrary to the public interest. This second delay of the effective date until May 5, 2025, is necessary to give Department officials the opportunity for further review and consideration of new regulations, consistent with the memorandum of the President, dated January 20, 2025. Given the imminence of the effective date of the interim final rule, seeking prior public comment on this delay is impractical, and contrary to the public interest in the orderly promulgation and implementation of regulations. For the foregoing reasons, the good cause exception in 5 U.S.C. 553(d)(3) also applies to OHA's decision to make this action effective immediately.

Tyler Hassen,
Senior Advisor to the Secretary, Exercising the Delegated Authority of the Assistant Secretary for Policy, Management and Budget.

[FR Doc. 2025-04310 Filed 3-13-25; 4:15 pm]

BILLING CODE 4334-CC-P